DEPARTMENT OF THE TREASURY

United States Mint

Pricing for America the Beautiful Five Ounce Silver Uncirculated Coins™

AGENCY: United States Mint, Department of the Treasury.

ACTION: Notice.

SUMMARY: The United States Mint is announcing the re-pricing of the America the Beautiful Five Ounce Silver Uncirculated Coins. The price of the America the Beautiful Five Ounce Silver Uncirculated Coins will be lowered from $229.95 to $204.95.

FOR FURTHER INFORMATION CONTACT: B.B. Craig, Associate Director for Sales and Marketing; United States Mint; 801 9th Street NW.; Washington, DC 20220; or call (202) 354-7500.

Authority: 31 U.S.C. 5111, 5112, and 9701.

Dated: December 30, 2011.
Al Runnels,
Acting Chief of Staff, United States Mint.

[FR Doc. 2012-28 Filed 1-5-12; 8:45 am]

BILLING CODE 4810-02-P